INTERNATIONAL TRADE COMMISSION

[Investigation No. 337-TA-443]

In the Matter of Certain Flooring Products; Notice of Commission Decision not to Review an Initial Determination Finding That Complainants Have Satisfied the Economic Prong of the Domestic Industry Requirement of Section 337 of the Tariff Act of 1930

AGENCY: U.S. International Trade Commission.

ACTION: Notice.

SUMMARY: Notice is hereby given that the U.S. International Trade Commission has determined not to review the presiding administrative law judge's (“ALJ's”) initial determination (“ID”) finding that complainants have satisfied the economic prong of the domestic industry requirement.

FOR FURTHER INFORMATION CONTACT: Robin L. Turner, Esq., Office of the General Counsel, U.S. International Trade Commission, 500 E Street, SW., Washington, DC 20436, tel. (202) 205-3096. Hearing impaired persons are advised that information on this matter can be obtained by contacting the Commission's TDD terminal at (202) 205-1810. General information concerning the Commission may also be obtained by accessing the Commission's internet server (http://www.usitc.gov). The public record for the this investigation may be viewed on the Commission's electronic docket (EDIS-ON-LINE) at http://www.usitc.gov/eol/public.

SUPPLEMENTAL INFORMATION: The Commission instituted this investigation on December 29, 2000, based on a complaint filed on behalf of Alloc, Inc., Berry Finance N.V., and Valinge Aluminum AB. There are seven respondents: Unilin Decor N.V., BHK of America, Meister-Leisten Schulte GmbH, Roysol, Akzenta Paneele + Profile GmbH, Tarkett, Inc., and Pergo, Inc. Complainants allege violations of section 337 by reason of infringement of multiple claims of U.S. Letters Patent Nos. 5,860,267 (‘267 patent), 6,023,907 (‘907 patent), and 6,182,410 (‘410 patent).

On May 11, 2001, complainants moved for summary determination on the economic prong of the domestic industry requirement under section 337. The motion was not opposed by the Commission investigative attorney and certain respondents, but was opposed by other respondents. On July 10, 2001, the ALJ issued an ID (Order No. 26) granting the motion. No party petitioned for review of the ID.

The authority for the Commission's action is contained in section 337 of the Tariff Act of 1930, as amended (19 CFR 1337), and in section 210.42(a) of the Commission's Rules of Practice and Procedure (19 CFR 210.42(a)). Copies of the ALJ's ID and all other nonconfidential documents filed in connection with this investigation are or will be available for inspection during official business hours (8:45 a.m. to 5:15 p.m.) in the Office of the Secretary, U.S. International Trade Commission, 500 E Street, SW., Washington, DC 20436, telephone (202) 205-2000.

By Order of the Commission.
Issued: July 30, 2001.
Donna R. Koehnke,
Secretary.

[FR Doc. 01-19372 Filed 8-2-01; 8:45 am]

BILLING CODE 7020-02-P